MERIT SYSTEMS PROTECTION BOARD

5 CFR Part 1201

Practices and Procedures

AGENCY: Merit Systems Protection Board.

ACTION: Final rule.

SUMMARY: The Merit Systems Protection Board (MSPB or the Board) is amending its rules of practice and procedure in this part to reflect the relocation of its Washington, DC, headquarters. On July 24, 2000, the Board relocated its headquarters offices from 1120 Vermont Avenue, NW., to 1615 M Street, NW. The amendment to this part advises parties to cases submitted to a Special Panel that pleadings must be filed with the Clerk of the Board at the new address.

EFFECTIVE DATE: August 10, 2000.

FOR FURTHER INFORMATION CONTACT: Robert E. Taylor, Clerk of the Board, (202) 653-7200.

The Board is publishing this rule as a final rule pursuant to 5 U.S.C. 1204(h).

List of Subjects in 5 CFR Part 1201

Administrative practice and procedure. Civil rights, Government employees.

Accordingly, the Board amends 5 CFR part 1201 as follows:

PART 1201—PRACTICES AND PROCEDURES

1. The authority citation for part 1201 continues to read as follows:

Authority: 5 U.S.C. 1204 and 7701, unless otherwise noted.

§ 1201.173 [Amended]

2. Amend 5 CFR 1201.173 at paragraph (f)(1)( by removing “1120 Vermont Avenue, NW.” and by adding in its place “1615 M Street, NW.” and by adding in its place “1615 M Street, NW.”

Dated: August 4, 2000.
Robert E. Taylor,
Clerk of the Board.

[FR Doc. 00-20220 Filed 8-9-00; 8:45 am]

BILLING CODE 7400-01-M